DEPARTMENT OF EDUCATION

National Institute on Disability and Rehabilitation Research (NIDRR); Notice of Extension

AGENCY: Office of Special Education and Rehabilitative Services, Department of Education.

ACTION: Notice of extension of project period and waiver.

SUMMARY: The Secretary waives the requirements in Education Department General Administrative Regulations (EDGAR), at 34 CFR 75.250 and 75.261(a) and (c)(2), respectively, that generally prohibit project periods exceeding 5 years and project period extensions involving the obligation of additional Federal funds to enable six Rehabilitation Research and Training Centers that conduct research on issues relating to the employment of individuals with disabilities to receive funding from October 1, 2003 until April 30, 2004.

EFFECTIVE DATE: This notice is effective September 30, 2003.

FOR FURTHER INFORMATION CONTACT: Donna Nangle, U.S. Department of Education, 400 Maryland Avenue, SW., room 3412, Switzer Building, Washington, DC 20202-2645. Telephone: (202) 205-5880 or via Internet: Donna.Nangle@ed.gov.

If you use a telecommunications device for the deaf (TDD), you may call the TDD number at (202) 205-4475.

Individuals with disabilities may obtain this document in an alternative format (e.g., Braille, large print, audiotape, or computer diskette) on request to the contact person listed under FOR FURTHER INFORMATION CONTACT.

SUPPLEMENTARY INFORMATION: The President's New Freedom Initiative (NFI) and the National Institute on Disability and Rehabilitation Research Long Range Plan (Plan) establish improving employment outcomes for individuals with disabilities as a critical need. National data indicate that employment rates of individuals with disabilities continue to lag well behind those of individuals without disabilities.

Note: The NFI can be accessed on the Internet at the following site: http://www.whitehouse.gov/news/freedominitiative/freedominitiative.html.

The Plan can be accessed on the Internet at the following site: http://www.ed.gov/rschstat/research/pubs/index.html.

In accordance with the goals of the NFI and the Plan, and as authorized under section 204(b)(2) of the Rehabilitation Act of 1973, as amended, through NIDRR, the Department provides funding for Rehabilitation Research and Training Centers to conduct research on the improvement of employment outcomes for individuals with disabilities. In order to foster more efficient use of Federal funds for the Rehabilitation and Research Training Centers program, the Secretary intends to refocus the priorities for research on these employment issues and provide funding for new awards in fiscal year (FY) 2004.

The grants for six Rehabilitation Research and Training Centers focusing on employment issues at Virginia Commonwealth University, Cornell University, The University of Wisconsin at Stout, The University of Hawaii, The University of Iowa, and The University of Massachusetts are scheduled to expire between September 30, 2003 and December 16, 2003. It would be contrary to the public interest, however, to have any lapses in these research and training activities before the refocused priorities can be implemented and new awards granted for FY 2004.

To avoid any lapse in research and training activities before the refocused priorities can be implemented, therefore, the Secretary has decided to fund these projects until April 30, 2004. Accordingly, the Secretary waives the requirements in 34 CFR 75.250 and 75.261(a) and (c)(2), which prohibit project periods exceeding 5 years and extensions of project periods that involve the obligation of additional Federal funds.

Waiver of Proposed Rulemaking

Under the Administrative Procedure Act (5 U.S.C. 553) the Department generally offers interested parties the opportunity to comment on proposed regulations. However, the waiver of the requirements in 34 CFR 75.250 and 75.261 applicable to the maximum project period and extension of the project period for these grants on a one-time only basis is procedural and does not establish new substantive policy. Therefore, under 5 U.S.C. 553(b)(A), proposed rulemaking is not required.

In addition, given the fact that the additional period of funding is only for a limited period of approximately four months from the expiration of the last grant agreement in December 2003, and the extensions must begin by September 30, 2003 to avoid any lapse in funding, the Secretary has determined that proposed rulemaking on this waiver is impracticable, unnecessary, and contrary to the public interest. Thus, proposed rulemaking also is not required under 5 U.S.C. 553(b)(B).

Regulatory Flexibility Act Certification

The Secretary certifies that the waiver and extension of the project period and waiver will not have a significant economic impact on a substantial number of small entities.

Paperwork Reduction Act of 1995

This extension and waiver does not contain any information collection requirements.

Electronic Access to This Document

You may review this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO access at: http://www.gpoaccess.gov/nara/index.html.

(Catalog of Federal Domestic Assistance Number 84.133B, Rehabilitation Research and Training Centers)

Program Authority: 29 U.S.C. 762(g) and 764(b)(2).

Dated: September 25, 2003.
Robert H. Pasternack,
Assistant Secretary for Special Education and Rehabilitative Services.

[FR Doc. 03-24705 Filed 9-29-03; 8:45 am]

BILLING CODE 4000-01-P